NATIONAL CREDIT UNION ADMINISTRATION

Sunshine Act; Notice of Meeting

Time and Date: 10 a.m. Thursday, July 25, 2002.

Place: Board Room, 7th Floor, Room 7047, 1775 Duke Street, Alexandria, VA 22314-3428.

Status: Open.

Matters to Be Considered: 1. Quarterly Insurance Fund Report.

2. Reprogramming of NCUA's Operating Budget for 2002.

3. Request from a Federal Credit Union to Convert to a Community Charter.

FOR FURTHER INFORMATION CONTACT: Becky Baker, Secretary of the Board, Telephone: 703-518-6304.

Sheila Albin,
Acting Secretary of the Board.

[FR Doc. 02-18568 Filed 7-18-02; 1:13 pm]

BILLING CODE 7535-01-M